DEPARTMENT OF TRANSPORTATION

Federal Aviation Administration

Notice of Intent To Release Certain Properties at the Melbourne International Airport, Melbourne, FL

AGENCY: Federal Aviation Administration (FAA), DOT.

ACTION: Request for Public Comment.

SUMMARY: The FAA hereby provides notice of intent to release certain airport properties 15.5 acres at the Melbourne International Airport, Melbourne, FL from the conditions, reservations, and restrictions as contained in a Quitclaim Deed agreement between the FAA and the City of Melbourne, dated April 20, 1948. Documents reflecting the Sponsor's request are available, by appointment only, for inspection at the Melbourne International Airport and the FAA Airports District Office.

DATES: Comments are due on or before September 21, 2017.

ADDRESSES: Documents are available for review at the Melbourne International Airport, One Air Terminal Parkway, Suite 220, Melbourne, FL 32901 and the FAA Airports District Office, 5950 Hazeltine National Drive, Suite 400, Orlando, FL 32822. Written comments on the Sponsor's request must be delivered or mailed to: Stephen Wilson, Program Manager, Orlando Airports District Office, 5950 Hazeltine National Drive, Suite 400, Orlando, FL 32822-5024.

In addition, a copy of any comments submitted to the FAA must be mailed or delivered to Mr. Mark Busalacchi, Director of Business Development, Melbourne International Airport, One Air Terminal Parkway, Suite 220, Melbourne, FL 32901.

FOR FURTHER INFORMATION CONTACT: Stephen Wilson, Program Manager, Orlando Airports District Office, 5950 Hazeltine National Drive, Suite 400, Orlando, FL 32822-5024.

SUPPLEMENTARY INFORMATION: The release of property will allow the City of Melbourne to dispose of the property for commercial use. The City of Melbourne requests the release of a 15.5 acre tract located in a commercial district along Apollo Boulevard in Melbourne, Florida. The parcel is currently designated commercial property. The property will be released of its federal obligations given the land is no longer required by The City of Melbourne. The Fair Market Value (FMV) of this parcel has been determined to be $2,125,000.00.

Section 125 of The Wendell H. Ford Aviation Investment and Reform Act for the 21st Century (AIR-21) requires the FAA to provide an opportunity for public notice and comment prior to the “waiver” or “modification” of a sponsor's Federal obligation to use certain airport land for non-aeronautical purposes.

Issued in Orlando, FL, on August 16, 2017.
Bart Vernace,
Manager, Orlando Airports District Office, Southern Region.

[FR Doc. 2017-17756 Filed 8-21-17; 8:45 am]

BILLING CODE 4910-13-P